DEPARTMENT OF COMMERCE

International Trade Administration

[A-533-808]

Stainless Steel Wire Rod from India: Extension of Time Limit of Preliminary Results of Antidumping Duty Administrative Review

AGENCY: Import Administration, International Trade Administration, Department of Commerce.

ACTION: Notice of Extension of Time Limit of the Preliminary Results of Antidumping Duty Administrative Review.

SUMMARY: The Department of Commerce (“the Department”) is extending the time limits of the preliminary results of the antidumping duty administrative review of stainless steel wire rod (“SSWR”) from India. This review covers the period December 1, 2000 through November 30, 2001.

EFFECTIVE DATE: November 13, 2002.

FOR FURTHER INFORMATION CONTACT: Stephen Bailey, AD/CVD Enforcement Group III, Office 9, Import Administration, International Trade Administration, U.S. Department of Commerce, 14th Street and Constitution Avenue, N.W., Washington, D.C. 20230; telephone: (202) 482-1102.

SUPPLEMENTARY INFORMATION:

Applicable Statute and Regulations

Unless otherwise indicated, all citations to the Tariff Act of 1930, as amended (“Act”), are references to the provisions effective January 1, 1995, the effective date of the amendments made to the Act by the Uruguay Round Agreements Act. In addition, unless otherwise indicated, all citations to the Department's regulations are to the regulations codified at 19 C.F.R. Part 351 (2001).

Background

On January 29, 2002, we published a notice of initiation of a review of SSWR from India covering the period December 1, 2000 through November 30, 2001. See Initiation of Antidumping and Countervailing Duty Administrative Reviews, January 22, 2002 (67 FR 4236). On July 9, 2002, we published a notice of extension of the preliminary results of administrative review from September 2, 2002, to November 1, 2002. See Stainless Steel Wire Rod from India: Extension of Time Limit of Preliminary Results of Antidumping Duty Administrative Review, July 9, 2002 (67 FR 45481) (“Preliminary Extension Notice”). Additionally, on September 17, 2002, we published a notice of extension of the preliminary results of administrative review from November 1, 2002, to December 1, 2002. See Stainless Steel Wire Rod from India: Extension of Time Limit of Preliminary Results of Antidumping Duty Administrative Review, September 17, 2002 (67 FR 58585).

Extension Of Time Limit Of Preliminary Results

Section 751(a)(3)(A) of the Act states that if it is not practicable to complete the review within the time specified, the administering authority may extend the 245-day period to issue its preliminary results by 120 days. Because the Department has already extended these preliminary results only 90 days, we are allowed to further extend the preliminary results an additional 30 days. Completion of the preliminary results of this review within the 305-day period is not practicable for the following reasons, which were also cited in the Preliminary Extension Notice:

• The review involves four companies, a large number of transactions and complex adjustments.

• All companies include sales and cost investigations which require the Department to gather and analyze a significant amount of information pertaining to each company's sales practices, manufacturing costs and corporate relationships.

• Additionally, responses from three of the four companies required the Department to issue multiple supplemental questionnaires which further delayed the planned verification schedules.

• The planned verification for one of the companies was delayed due to the Department having to issue additional supplemental questionnaires.

Therefore, in accordance with section 751(a)(3)(A) of the Act, we are extending the time period for issuing the preliminary results of review by 30 days until December 31, 2002. The final results continue to be due 120 days after the publication of the preliminary results.

Dated: November 11, 2002.
Joseph A. Spetrini,
Deputy Assistant Secretary for Import Administration, Group III.

[FR Doc. 02-28818 Filed 11-12-02; 8:45 am]

BILLING CODE 3510-DS-S